DEPARTMENT OF JUSTICE

Antitrust Division

Notice Pursuant to the National Cooperative Research and Production Act of 1993—UHD Alliance, Inc., in Its Capacity as a Standards Development Organization

Notice is hereby given that, on June 17, 2015, pursuant to section 6(a) of the National Cooperative Research and Production Act of 1993, 15 U.S.C. 4301 et seq. (“the Act”), UHD Alliance, Inc., in its capacity as a Standards Development Organization (“UHD Alliance SDO”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: UHD Alliance, Inc., Fremont, CA. The nature and scope of UHD Alliance SDO's standards development activities are as follows: UHD Alliance SDO is organized and will be operated primarily to create a framework to enable the global industries interested in premium next generation content related technologies, such as Ultra High Definition, High Dynamic Range, Wide Color Gamut, High Frame Rate and Next Gen Audio (“Premium Next Gen Content”) to (a) specify and develop requirements for the premium quality Premium Next Gen Content, related devices, distribution and other elements of a UHD Alliance-based ecosystem (“Specifications”); (b) promote the global development and adoption of Specifications and Specification-compliant products (i.e., content, devices, and services); (c) provide clear definitions, industry guidelines and best practices on emerging technologies and collaborate with other standards development organizations; (d) develop and administer Premium Next Gen Content testing methodologies and certification programs based on the Specifications; (e) establish a logo program for Specification certified products (i.e., content, devices and services); and (f) promote the UHD Alliance brand and ecosystem to consumers.

Patricia A. Brink,
Director of Civil Enforcement, Antitrust Division.

[FR Doc. 2015-17545 Filed 7-16-15; 8:45 am]

BILLING CODE P